DEPARTMENT OF LABOR

Employment and Training Administration

[TA-W-51,068]

JJM, Ltd., Mega Tech of Oregon Division, Corvallis, OR; Notice of Termination of Investigation

Pursuant to section 221 of the Trade Act of 1974, as amended, an investigation was initiated on March 5, 2003, in response to a worker petition filed by a company official on behalf of workers at JJM, Ltd., Mega Tech of Oregon Division, Corvallis, Oregon.

The petitioning group of workers is covered by an earlier petition filed on February 13, 2003 (TA-W-50,889) that is the subject of an ongoing investigation for which a determination has not yet been issued. Further investigation in this case would duplicate efforts and serve no purpose; therefore the investigation under this petition has been terminated.

Signed at Washington, DC, this 20th day of March, 2003.
Richard Church,
Certifying Officer, Division of Trade Adjustment Assistance.

[FR Doc. 03-7897 Filed 4-1-03; 8:45 am]

BILLING CODE 4510-30-P